DEPARTMENT OF STATE

[Public Notice: 9284]

Determination Under Section 610 of the Foreign Assistance Act of 1961

Pursuant to the authority vested in me by section 610 of the Foreign Assistance Act of 1961, (the “Act”), and the President's Memorandum of Delegation dated August 28, 2015, I hereby determine it necessary for the purposes of the Act that the following funds be transferred to, and consolidated with, funds made available under chapter 4 of part II of the Act, and such funds are hereby so transferred and consolidated:

• $19,000,000 of FY 2014 International Narcotics Control and Law Enforcement-Overseas Contingency Operations (INCLE-OCO) funds to the Economic Support Fund-Overseas Contingency Operations (ESF-OCO) account.

This determination shall be reported to Congress and published in the Federal Register.

Dated: September 14, 2015.
John F Kerry,
Secretary of State.

[FR Doc. 2015-24268 Filed 9-23-15; 8:45 am]

BILLING CODE 4710-10-P